DEPARTMENT OF THE INTERIOR

Bureau of Ocean Energy Management

[MMAA104000; OMB Control Number 1010-0151; Docket ID: BOEM-2018-0016]

Agency Information Collection Activities; Submission to the Office of Management and Budget for Review and Approval; 30 CFR 550, Subpart B, Plans and Information

AGENCY: Bureau of Ocean Energy Management, Interior.

ACTION: Notice of information collection; request for comment.

SUMMARY: In accordance with the Paperwork Reduction Act of 1995, the Bureau of Ocean Energy Management (BOEM) is proposing to renew an information collection with revisions.

DATES: Interested persons are invited to submit comments on or before April 30, 2018.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia, 20166; or by email to anna.atkinson@boem.gov. Please reference Office of Management and Budget (OMB) Control Number 1010-0151 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995 (PRA), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 15, 2017 (82 FR 59645). One comment was received from a private citizen, but it was not germane to the information collection in this ICR.

We are again soliciting comments on the proposed ICR that is described below. We are especially interested in public comment addressing the following issues: (1) Is the collection necessary to the proper functions of BOEM; (2) Will this information be processed and used in a timely manner; (3) Is the estimate of burden accurate; (4) How might BOEM enhance the quality, utility, and clarity of the information to be collected; and (5) How might BOEM minimize the burden of this collection on the respondents, including through the use of information technology?

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Outer Continental Shelf (OCS) Lands Act, as amended (43 U.S.C. 1331 et seq. and 43 U.S.C. 1801 et seq.), authorizes the Secretary of the Interior to prescribe rules and regulations to administer leasing of mineral resources on the OCS. Such rules and regulations apply to all operations conducted under a lease, or unit. The OCS Lands Act, at 43 U.S.C. 1340 and 1351, requires the holders of OCS oil and gas or sulphur leases to submit exploration plans (EPs) and development and production plans (DPPs) to the Secretary for approval prior to commencing these activities. Also, as a Federal agency, we have an affirmative duty to comply with the National Environmental Policy Act and the Endangered Species Act (ESA). Compliance with the ESA includes a substantive duty to carry out any agency action in a manner that is not likely to jeopardize protected species, as well as a procedural duty to consult with the United States Fish and Wildlife Service (USFWS) and National Oceanic and Atmospheric Administration Fisheries (NOAA Fisheries) before engaging in a discretionary action that may affect a protected species.

The regulations at 30 CFR part 550, subpart B, concern plans and information that must be submitted to conduct activities on a lease or unit, and are the subject of this collection. The collection also covers the related Notices to Lessees and Operators (NTLs) that BOEM issues to clarify or provide additional guidance on some aspects of our regulations.

BOEM geologists, geophysicists, and environmental scientists and other Federal agencies (e.g., USFWS, NOAA Fisheries) analyze and evaluate the information and data collected under Subpart B to ensure that planned operations are safe; will not adversely affect the marine, coastal, or human environment; and will conserve the resources of the OCS. BOEM uses the information to make an informed decision on whether to approve the proposed EP or DPP as submitted, or require plan modifications. The affected States also review the information collected to determine consistency with approved Coastal Zone Management plans.

In 2016, BOEM published a final rule entitled, “Oil and Gas and Sulfur Operations on the Outer Continental Shelf—Requirements for Exploratory Drilling on the Arctic Outer Continental Shelf.” This rule finalized new regulations specific to activities conducted on the Arctic OCS that modify 30 CFR part 550, subpart B. The new regulations require operators to develop an Integrated Operations Plan (IOP) for each exploratory program on the Arctic OCS, as well as to submit additional planning information with the EPs. An additional 3,930 burden hours were approved as part of that rulemaking, and are included in the burden table for this control number. The Secretary's Order 3350 (May 1, 2017), which further implements the President's Executive Order entitled, “Implementing an America-First Offshore Energy Strategy” (82 FR 20815, May 3, 2017), directs BOEM to review the final rule. If the Secretary decides that the final determination is to suspend, revise, or rescind the rule, the related burden hours in this OMB control number will be adjusted accordingly.

We protect proprietary information, including the information collected under Subpart B, in accordance with the Freedom of Information Act (5 U.S.C. 552) and the Department of the Interior's implementing regulations (43 CFR part 2), 30 CFR 550.197, “Data and information to be made available to the public or for limited inspection,” and 30 CFR part 552, “Outer Continental Shelf (OCS) Oil and Gas Information Program.”

Title of Collection: 30 CFR 550, Subpart B, Plans and Information.

OMB Control Number: 1010-00151.

Form Number:

• BOEM-0137—OCS Plan Information Form

• BOEM-0138—Exploration Plan (EP) Air Quality Screening Checklist

• BOEM-0139—DOCD Air Quality Screening Checklist

• BOEM-0141—ROV Survey Report

• BOEM-0142—Environmental Impact Analysis Worksheet

Type of Review: Revision of a currently approved collection.

Respondents/Affected Public: Potential respondents comprise Federal OCS oil, gas, and sulphur lessees and operators.

Total Estimated Number of Annual Responses: 4,266.

Total Estimated Number of Annual Burden Hours: 436,438.

Respondent's Obligation: Mandatory.

Frequency of Collection: On occasion, semi-monthly, and varies by section.

Total Estimated Annual Non-Hour Cost: $3,939,435.

We have identified three non-hour costs associated with this information collection that are cost recovery fees. They consist of fees being submitted with EPs ($3,673), DPPs or Development Operation Coordination Documents (DOCDs) ($4,238), and Conservation Information Documents (CIDs) ($27,348).

There is also one non-hour cost associated with the Protected Species Observer program. The cost associated with this program is due to observation activities that are usually subcontracted to other service companies with expertise in these areas.

Estimated Reporting and Recordkeeping Hour Burden: We expect the estimated annual reporting burden for this collection to be 436,438 hours. We are transferring 3,930 annual burden hours from OMB control number 1010-0189, 30 CFR 550, Subpart B, Arctic OCS Activities, to this information collection request. These 3,930 annual burden hours are for Arctic exploration requirements which were approved by OMB in the final rule for Requirements for Exploratory Drilling on the Arctic OCS, 81 FR 46478 (July 15, 2016). Once this information collection request is approved by OMB, we will be discontinuing OMB control number 1010-0189.

The following table details the individual BOEM components and respective hour burden estimates of this ICR.

Burden Breakdown
Citation 30 CFR 550 subpart B and NTLs | Reporting & recordkeeping requirement | Hour burden | Average number of annual responses | Burden hours
| Non-hour costs
200 thru 206 | General requirements for plans and information; fees/refunds, etc | Burden included with specific requirements below |  | 0
201 thru 206; 211 thru 228: 241 thru 262 | BOEM posts EPs/DPPs/DOCDs on FDMS, and receives public comments for preparation of EAs | Not considered IC as defined in 5 CFR 1320.3(h)(4) |  | 0
204 ** | For new Arctic OCS exploration activities: submit IOP, including all required information | 2,880 | 1 | 2,880
Subtotal | 1 | 2,880
Ancillary Activities
208; NTL 2009-G34 * | Notify BOEM in writing, and if required by the Regional Supervisor notify other users of the OCS before conducting ancillary activities | 11 | 61 notices | 671
208; 210(a) | Submit report summarizing & analyzing data/information obtained or derived from ancillary activities | 2 | 61 reports | 122
208; 210(b) | Retain ancillary activities data/information; upon request, submit to BOEM | 2 | 61 records | 122
Subtotal | 183 responses | 915
Contents of Exploration Plans (EP)
209; 231(b); 232(d); 234; 235; 281(3); 283; 284; 285; NTL 2015-N01 * | Submit new, amended, modified, revised, or supplemental EP, or resubmit disapproved EP, including required information; withdraw your EP | 150 | 345 changed plans | 51,750
209; 211 thru 228; NTL 2015-N01 * | Submit EP and all required information (including, but not limited to, submissions required by BOEM Forms 0137, 0138, 0142; lease stipulations; reports, including shallow hazards surveys; H2S; G&G; archaeological surveys & reports (550.194) ***, in specified formats Provide notifications | 600 | 163 plans | 97,800
|  | $3,673 × 163 EP surface locations = $598,699 non-hour cost
220 | Alaska-specific requirements | Burden included with EP requirements (30 CFR 550.211-228). |  | 0
220 ** | For new Arctic OCS exploration activities: submit required Arctic-specific information with EP | 350 | 1 | 350
220 ** | For existing Arctic OCS exploration activities: submit Arctic-specific information, as required | 700 | 1 | 700
Subtotal | 510 responses | 150,600
|  |  | $598,699 Non-Hour Costs
Review and Decision Process for the EP
235(b); 272(b); 281(d)(3)(ii) | Appeal State's objection | Burden exempt as defined in 5 CFR 1320.4(a)(2) and (c) |  | 0
Contents of Development and Production Plans (DPP) and Development Operations Coordination Documents (DOCD)
209; 266(b); 267(d); 272(a); 273; 281(3)(i); 283; 284; 285; NTL 2015-N01 * | Submit amended, modified, revised, updated or supplemental DPP or DOCD, including required information, or resubmit disapproved DPP or DOCD | 235 | 353 changed plans | 82,955
241 thru 262; 209; NTL 2015-N01 * | Submit DPP/DOCD and required/supporting information (including, but not limited to, submissions required by BOEM Forms 0137, 0139, 0142; lease stipulations; reports, including shallow hazards surveys; archaeological surveys & reports such as shallow hazards surveys (CFR 550.194)), in specified formats. Provide notifications | 700 | 268 plans | 187,600
|  | $4,238 × 268 DPP/DOCD wells = $1,135,784
Subtotal | 621 responses | 270,555
| $1,135,784 Non-hour costs
Review and Decision Process for the DPP or DOCD
267(a) | Once BOEM deemed DPP/DOCD submitted; Governor of each affected State, local government official; etc., submit comments/recommendations | Not considered IC as defined in 5 CFR 1320.3(h)(4) |  | 0
267(b) | General public comments/recommendations submitted to BOEM regarding DPPs or DOCDs | Not considered IC as defined in 5 CFR 1320.3(h)(4) |  | 0
269(b) | For leases or units in vicinity of proposed development and production activities RD may require those lessees and operators to submit information on preliminary plans for their leases and units | 3 | 1 response | 3
Subtotal | 1 responses | 3
Post-Approval Requirements for the EP, DPP, and DOCD
280(b) | In an emergency, request departure from your approved EP, DPP, or DOCD | Burden included under 1010-0114 |  | 0
281(a) | Submit various BSEE applications for approval and submit permits | Burdens included under appropriate subpart or form (1014-0003; 1014-0011; 1014-0016; 1014-0018) |  | 0
282 | Retain monitoring data/information; upon request, make available to BOEM | 4 | 150 records | 600
282(b) | Prepare and submit monitoring plan for approval | 2 | 6 plans | 12
| Prepare and Submit monitoring reports and data (including BOEM Form 0141 used in GOMR) | 3 | 12 reports | 36
284(a) | Submit updated info on activities conducted under approved EP/DPP/DOCD | 4 | 56 updates | 224
Subtotal | 224 responses | 872
Submit CIDs
296(a); 297 | Submit CID and required/supporting information; submit CID for supplemental DOCD or DPP | 375 | 14 documents | 5,250
|  | $27,348 × 14 = $382,872
296(b); 297 | Submit a revised CID for approval | 100 | 13 revisions | 1,300
Subtotal | 27 responses | 6,550
|  |  | $382,872 non-hour costs
Seismic Survey Mitigation Measures and Protected Species Observer Program NTL *
NTL 2016-G02 *; 211 thru 228; 241 thru 262 | Submit to BOEM observer training requirement materials and information | 1.5 | 2 sets of material | 3
| Training certification and recordkeeping | 1 | 1 new trainee | 1
| During seismic acquisition operations, submit daily observer reports semi-monthly | 1.5 | 344 reports | 516
| If used, submit to BOEM information on any passive acoustic monitoring system prior to placing it in service | 2 | 6 submittals | 12
| During seismic acquisition operations, submit to BOEM marine mammal observation report(s) semi-monthly or within 14 hours if air gun operations were shut down | 1.5 | 1,976 reports | 2,964
| During seismic acquisition operations, when air guns are being discharged, submit daily observer reports semi-monthly | 1.5 | 344 reports | 516
| Observation Duty (3 observers fulfilling an 8 hour shift each for 365 calendar days × 4 vessels = 35,040 man-hours). This requirement is contracted out; hence the non-hour cost burden | 3 observers × 8 hrs × 365 days = 8,760 hours × 4 vessels observing = 35,040 man-hours × $52/hr = $1,822,080 non-hour costs
Subtotal | 2,673 responses | 4,012
| $1,822,080 Non-Hour Costs
Vessel Strike Avoidance and Injured/Protected Species Reporting NTL *
NTL 2016-G01 *; 211 thru 228; 241 thru 262 | Notify BOEM within 24 hours of strike, when your vessel injures/kills a protected species (marine mammal/sea turtle) | 1 | 1 notice | 1
Subtotal | 1 response | 1
General Departure and Alternative Compliance
200 thru 299 | General departure and alternative compliance requests not specifically covered elsewhere in Subpart B regulations | 2 | 25 requests | 50
Subtotal | 25 responses | 50
Total Burden | 4,266 responses | 436,438
* The identification number of NTLs may change when NTLs are reissued periodically to update information.
** NEW requirements from the Oil and Gas and Sulfur Operations on the Outer Continental Shelf—Requirements for Exploratory Drilling on the Arctic Outer Continental Shelf final rule.
*** Archaeological surveys and reports required under 30 CFR 550, Subpart A, in 550.194(a) are generally part of the geohazard survey report required under 30 CFR 550, Subpart B. On average it takes an archaeologist 35 hours to prepare the archaeological survey and report. This hour burden is included in the overall hour burden estimate for submission of EPs and all required information.

An agency may not conduct or sponsor and a person is not required to respond to a collection of information unless it displays a currently valid OMB control number.

The authority for this action is the Paperwork Reduction Act of 1995 (44 U.S.C. 3501 et seq.).

Dated: March 27, 2018.
Deanna Meyer-Pietruszka,
Chief, Office of Policy, Regulation and Analysis.

[FR Doc. 2018-06500 Filed 3-28-18; 8:45 am]

BILLING CODE 4310-MR-P